TENNESSEE VALLEY AUTHORITY

Meeting of the Regional Resource Stewardship Council

AGENCY: Tennessee Valley Authority (TVA).

ACTION: Notice of meeting.

SUMMARY: The Regional Resource Stewardship Council (Regional Council) will hold a meeting to consider various matters. Notice of this meeting is given under the Federal Advisory Committee Act, 5 U.S.C. App. 2, (FACA).

The meeting agenda includes the following/briefings:

1. Continuation of aquatic plant management policy recommendation discussion.

2. Continuation of integrated management of the Tennessee River system recommendation discussion.

3. Recommendation from the public lands subcommittee on a public lands management policy.

4. Public comments.

5. Presentation on federal financing bank refinancing legislation and a deregulation overview.

6. Planning for future meetings.

It is the Regional Council's practice to provide an opportunity for members of the public to make oral public comments at its meetings. Public comment session is scheduled from 1-2 p.m. EDT. Members of the public who wish to make oral public comments may do so during the Public comments portion of the agenda. Up to one hour will be allotted for the Public comments with participation available on a first-come, first-served basis. Speakers addressing the Council are requested to limit their remarks to no more than 5 minutes. Persons wishing to speak register at the door and are then called on by the Council Chair during the public comment period. Hand-out materials should be limited to one printed page. Written comments are also invited and may be mailed to the Regional Resource Stewardship Council, Tennessee Valley Authority, 400 West Summit Hill Drive, WT 11A, Knoxville, Tennessee 37902.

DATES: The meeting will be held on Friday, May 18, 2001, from 8 a.m. to 4 p.m. EDT.

ADDRESSES: The meeting will be held in Knoxville, Tennessee, at the Tennessee Valley Authority headquarters located at 400 West Summit Hill Drive, Knoxville, Tennessee 37902, and will be open to the public. Anyone needing special access or accommodations should let the contact below know at least a week in advance.

FOR FURTHER INFORMATION CONTACT: Sandra L. Hill, 400 West Summit Hill Drive, WT 11A, Knoxville, Tennessee 37902, (865) 632-2333.

Dated: April 18, 2001.
Kathryn J. Jackson,
Executive Vice President, River System Operations & Environment, Tennessee Valley Authority.

[FR Doc. 01-10380 Filed 4-25-01; 8:45 am]

BILLING CODE 8120-08-P